DEPARTMENT OF ENERGY

Federal Energy Regulatory Commission

[Docket Nos. RP00-335-002 and RP01-414-002]

Black Marlin Pipeline Company; Notice of Compliance Filing

December 11, 2002.

Take notice that on November 14, 2002, Black Marlin Pipeline Company tendered for filing as part of its Order No. 637 proceeding, a statement regarding park and loan service. The filing is being submitted in compliance with Commission letter order issued in October 30, 2002 in Docket No. RP02-568-000.

Any person desiring to protest said filing should file a protest with the Federal Energy Regulatory Commission, 888 First Street, NE., Washington, DC 20426, in accordance with section 385.211 of the Commission's rules and regulations. All such protests must be filed on or before December 18, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31728 Filed 12-17-02; 8:45 am]

BILLING CODE 6717-01-P